DEPARTMENT OF TRANSPORTATION

Federal Railroad Administration

Notice of Application for Approval of Discontinuance or Modification of a Railroad Signal System or Relief From the Requirements

Pursuant to Title 49 Code of Federal Regulations (CFR) part 235 and 49 U.S.C. App. 26, the following railroads have petitioned the Federal Railroad Administration (FRA) seeking approval for the discontinuance or modification of the signal system or relief from the requirements of 49 CFR part 236 as detailed below.

[Docket No. FRA-2002-11371]

Applicant: CSX Transportation, Inc., Mr. Gregory C. Martin, Ph.D., P.E., Chief Mechanical Officer, Engineering and Quality Assurance, 500 Water Street J344, Jacksonville, Florida 32202.

CSX Transportation, Incorporated seeks relief from the requirements of the Rules, Standards and Instructions, Title 49 CFR part 236 § 236.586, to the extent that a visual inspection of the track receiver bars and associated conduit, in the winter months on locomotives equipped with Ultra Cab cab signal equipment, not be required if track receiver bars are packed with ice and snow.

Applicant's justification for relief: Ultra Cab equipment has a cab signal self test feature which checks to see if the cab signal track receiver bars are in the circuit. It verifies the track receiver bars and associated wiring are not open or shorted and that it can pass 100 Hz through them. Removal of snow and ice is very time consuming and labor intensive. In some instances, this is almost impossible, unless the locomotive is shopped in a warm shop to thaw. CSX does not believe having to go to this extreme to satisfy a rule was the intent of the FRA.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9 a.m.—5 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on March 6, 2002.
Grady C. Cothen, Jr.,
Deputy Associate Administrator for Safety Standards and Program Development.

[FR Doc. 02-5803 Filed 3-11-02; 8:45 am]

BILLING CODE 4910-06-P